DEPARTMENT OF THE INTERIOR

Bureau of Land Management

[NV-058-01-1610-DG]

Notice of Availability

February 7, 2001.

AGENCY: Department of the Interior, Bureau of Land Management.

ACTION: Notice of Availability.

SUMMARY: Pursuant to Public Law 103-621 (11/2/94) which expanded the boundaries of RRCNCA as designated in the Red Rock Canyon National Conservation Establishment Act (Public Law 101-621 11/16/90) and amends portions of the Act, the Las Vegas Field Office, BLM, has completed the Proposed General Management Plan/Final Environmental Impact Statement (GMP/FEIS) for Red Rock Canyon National Conservation Area.

The Proposed Plan and FEIS is available to the public for a 30 day protest period. Originally the protest period was to begin on January 29, 2001 and continue through February 28, 2001. Due to delays in printing of the document, the new protest period will begin on March 1, 2001 and continue through March 30, 2001. The Proposed Plan may be protested by any person who participated in the planning process and who has an interest which is or may be adversely affected by the approval of the Proposed Plan. A protest may raise only those issues which were submitted for the record during the planning process (see 43 Code of Federal Regulations 1610.5-2).

All protest must be written and must be postmarked on or before March 30, 2001 and shall contain the following information:

The name, mailing address, telephone number and interest of the person filing the protest.

A statement of the issue or issues being protested.

A statement of the part or parts of the document being protested.

A copy of all documents addressing the issue or issues previously submitted during the planning process by the protesting party, or an indication of the date the issue or issues were discussed for the record.

A concise statement explaining precisely why the Bureau of Land Management, Nevada State Director's decision is wrong.

Upon resolution of any protests, an Approved Plan and record of Decision will be issued. The approved Plan/Record of Decision will be mailed to all individuals who participated in this planning process and all other interested publics upon their request.

ADDRESSES: Protests must be filed with: Director, Bureau of Land Management, Attn. Ms Brenda Williams, Protest Coordinator, 1849 C Street NW, Washington, D.C. 20240.

Copies of the Proposed Plan may be obtained from the Las Vegas Field Office, W. Vegas Drive, Las Vegas, NV 89108.

Public reading copies are available for review at the Clark County public libraries, all government repository libraries and the following BLM locations:

Office of External Affairs, Main Interior Building, Room 5000, 1849 C Street, NW, Washington, DC:

Public Room, Nevada State Office, 1340 Financial Blvd., Reno, NV;

and the Las Vegas Field Office at the above address.

FOR FURTHER INFORMATION CONTACT: Gene Arnesen, GMP Team Leader, at BLM's Las Vegas Field Office listed above or telephone (702) 647-5068.

Dated: February 7, 2001
Mark T. Morse,
Las Vegas Field Office Manager.

[FR Doc. 01-3746 Filed 2-13-01; 8:45 am]

BILLING CODE 4310-HC-M